DEPARTMENT OF DEFENSE

Office of the Secretary

[Docket ID: DoD-2013-OS-0075]

Privacy Act of 1974; System of Records

AGENCY: Defense Logistics Agency, DoD.

ACTION: Notice to alter a System of Records.

SUMMARY: The Defense Logistics Agency proposes to alter a system of records in its inventory of record systems subject to the Privacy Act of 1974 (5 U.S.C. 552a), as amended.

DATES: This proposed action will be effective on May 20, 2013 unless comments are received which result in a contrary determination. Comments will be accepted on or before May 17, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA/FOIA/Privacy Act Office, Headquarters, Defense Logistics Agency, ATTN: DGA, 8725 John J. Kingman Road, Suite 1644, Fort Belvoir, VA 22060-6221, or by phone at (703) 767-5045.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 1, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 1, 2013.
Aaron Siegel,
Alternate OSD Federal Register Liaison Officer, Department of Defense.

S190.10

System name:

DLA Hometown News Releases (June 24, 2011; 76 FR 37082).

Changes:

* * * * *

System location:

Delete entry and replace with “Public Affairs Offices of the Defense Logistics Agency. Official mailing addresses are published as an appendix to DLA's compilation of systems of records notices.”

* * * * *

Categories of records in the system:

Delete entry and replace with “Information is provided by the subject individual and may include: Name, hometown, branch of service, rank, pay grade, newsworthy event, marital status, names and hometowns of relatives (parents, stepparents, guardians, aunts/uncles, grandparents, and adult siblings), present unit of assignment, job title, years of military service, education data, and photographs.”

* * * * *

Purpose(s):

Delete entry and replace with “Information is collected and maintained for the purpose of distributing information on activities and accomplishments of DLA military and civilian personnel to hometown newspapers and broadcast stations throughout the United States. Information is provided by the individual and is released with the individual's full cooperation and consent.”

Routine uses of records maintained in the system, including categories of users and the purposes of such uses:

Replace second paragraph with “Information is released to hometown newspapers and broadcast stations throughout the United States for the purpose of showcasing the activities and accomplishments of the DLA military or civilian member.”

* * * * *

Retrievability:

Delete entry and replace with “News releases are retrieved by the subject individual's last name.”

Safeguards:

Delete entry and replace with “Physical entry is restricted by the use of guards, locks, and administrative procedures. Computers are equipped with “Smart Card” technology that requires the insertion of an embedded identification card and entry of a PIN. All individuals granted access to this system of records have a need to know, are to have taken annual Privacy Act training, and are periodically briefed on their responsibilities regarding safeguarding personal information.”

* * * * *

System manager(s) and address:

Delete entry and replace with “The Heads of the Defense Logistics Agency Public Affairs Offices. Official mailing addresses are published as an appendix to DLA's compilation of systems of records notices.”

* * * * *

[FR Doc. 2013-08917 Filed 4-16-13; 8:45 am]

BILLING CODE 5001-06-P